LIBRARY OF CONGRESS

U.S. Copyright Office

[Docket No. 2013-2]

Technological Upgrades to Registration and Recordation Functions

AGENCY: U.S. Copyright Office, Library of Congress.

ACTION: Notice of Inquiry.

SUMMARY: The United States Copyright Office (hereinafter Copyright Office or Office) is in the process of identifying and evaluating potential improvements and technical enhancements to the information technology platforms that support its registration and recordation functions, including its online registration system. These efforts are part of the Office's ongoing special projects, commenced October 25, 2011 (available at the Office's Web site at www.copyright.gov/docs/priorities.pdf). The information garnered through this process has and will continue to inform the development of the Copyright Office's long-term strategic plan, scheduled to commence in October 2013.

At this time, the Office seeks comments regarding existing capabilities and future possibilities. Broadly, the Office seeks comments on (1) how stakeholders use the current online offerings of the Copyright Office, especially with respect to registration and recorded documents, and how the current offerings meet, fail to meet, or exceed user expectations; and (2) how stakeholders would like to interact with the Copyright Office electronically in the future, or, put differently, what online services, or aspects of existing online services stakeholders would like to see. The Office appreciates the comments and suggestions of those who use the national registration and recordation systems to protect their intellectual property, as well as those who regularly use Copyright Office resources to identify copyright owners, investigate the copyright status of works and the public domain, and perform other research, including statistical analysis on aggregated data sets.

DATES: Comments on the Notice of Inquiry and Requests for Comments are due on or before May 21, 2013.

Submission: All comments shall be submitted electronically. A comment page containing a comment form is posted on the Copyright Office Web site at http://www.copyright.gov/docs/technical_upgrades. The Web site interface requires submitters to complete a form specifying name and organization, as applicable, and to upload comments as an attachment via a browse button. To meet accessibility standards, all comments must be uploaded in a single file in either the Portable Document File (PDF) format that contains searchable, accessible text (not an image); Microsoft Word; WordPerfect; Rich Text Format (RTF); or ASCII text file format (not a scanned document). The maximum file size is 6 megabytes (MB). The name of the submitter and organization should appear on both the form and the face of the comments. All comments will be posted publicly on the Copyright Office web site exactly as they are received, along with names and organizations. If electronic submission of comments is not feasible, please contact the Copyright Office at 202-707-8350 for special instructions.

FOR FURTHER INFORMATION CONTACT: Douglas Ament, Director of Information Technology, Copyright, by email at uscotechupgrades@loc.gov; Christopher S. Reed, Senior Advisor for Policy & Special Projects, Office of the Register of Copyrights, by email at creed@loc.gov; or call the U.S. Copyright Office by phone at 202-707-8350.

SUPPLEMENTARY INFORMATION:

I. Background

In 2000, the Copyright Office initiated a comprehensive business process reengineering initiative intended to update the Office's technology platform and improve operational efficiency. With the assistance of outside consultants and business analysts, the Office identified opportunities for efficiency enhancements and process improvements. The most significant recommendation was to convert the existing paper-based copyright registration system to an electronic system, which included the development of related new business processes and the automated production of public copyright records.

Funding available for the reengineering effort was limited and decisions made by the Copyright Office and the greater Library were necessarily constrained. Ultimately the Office implemented a commercial off-the-shelf software package. The Office piloted the internal business process functions of the software with a subset of constituents in February 2005, followed by full implementation of the Copyright Office's electronic processing system in August 2007. The public-facing electronic registration system—the system that enables copyright registration applicants to submit materials online—was launched in July 2008. The Office implemented a significant upgrade to its software and hardware platforms in August 2010, and implemented periodic upgrades and enhancements to accommodate the needs of the system's stakeholders—namely those that submit materials for registration, those that search the Copyright Office database for copyright ownership information, and the Copyright Office's staff that process and examine copyright claims.

Today, more than eighty percent of the Office's applications for copyright registration come through the electronic system, demonstrating the copyright community's widespread interest in electronic registration functions. Although the current system, and the periodic upgrades and enhancements, have allowed the Office to maintain a functional electronic platform for many types of works, there is room for substantial improvement. Notably, the Office's recordation services were included in the initial reengineering plan, but were later dropped for budgetary reasons. Recordation processes are, thus, still paper-based and are a top concern of the Copyright Office. Thus, the Office's current systems represent the “first generation” of the Office's electronic processing capabilities.

II. Discussion

In recent months, project leaders from the Copyright Office have engaged copyright owners, users of copyright records, technical experts, public interest organizations, and lawyers, including through professional associations and small businesses to participate in a series of focused discussions on issues relating to the Office's platforms for registration, document recordation, and public access to copyright ownership information. Through these discussions, as well as through its own expert analysis, the Office has identified a number of areas in which the current electronic system could be improved. For example, numerous interested parties have observed that the current user interface for electronic registration is a challenge to navigate. Users have told the Office that it would be helpful to be able to customize the user interface and workflow in order to streamline the registration process to accommodate their own internal workflows. Moreover, users would like to exercise some degree of control over the nature and scope of information they view in a personalized registration system dashboard. The Copyright Office is aware of similar requests from its own staff, many of whom desire customizable workflows to enhance productivity and process efficiency, which would result in improved turnaround times for remitters.

At a global level, the Office is aware that as mobile technology becomes ubiquitous, an increasing number of stakeholders desire to use mobile devices to interact with the Office. To that end, the Office is evaluating the potential to deploy a mobile optimized web interface, “apps” that support popular mobile platforms, and the development of an application program interface (API) that can be utilized within third party applications.

The Office has also heard that many of its users would benefit from improved tracking capabilities. Remitters have indicated that the existing electronic registration process is cumbersome and are oftentimes uncertain of their progress within the application process; to improve that aspect of the system, they have suggested that the Office implement a visual representation of the registration workflow and the user's status within it (e.g., a status bar).

Beyond improvements to the registration functions, the Office is aware of opportunities for improvement to its public record search capabilities. Stakeholders have indicated that the Office's search function should be more robust, allowing for more search criteria, refining the display of the search results, adding filters, and generally making the search functionality more user-friendly. Representatives from interested parties also suggested the Copyright Office make it easier to provide updates to the public record to ensure the data maintained is accurate and up to date (e.g., address changes). The Office is thus investigating methods of secure and effective data sharing between interested parties and the Copyright Office in order to determine if such functionality can be implemented in a manner that ensures integrity of the Office's records.

The Office is also aware of the need for long-term, scalable data storage and archiving capability to accommodate the growing volume of digital works that the Office receives. The Office has received recommendations to centralize the various information clusters internally within the Copyright Office to a central data repository and establish a central data warehouse. Implementing such a warehouse presents a series of challenges that the Office seeks to learn more about, including determining scalable infrastructure solutions to accommodate vast amounts of data, analyzing data standards needed to establish a central data model, and evaluating potential data archival strategies.

One recommendation that the Office frequently hears, and one that underlies many of the areas of improvement noted above, is the need for bulk data transfer between the Office and interested outside parties. Such transfer mechanisms would allow more widespread distribution of the Office's records, as well as permit remitters to submit large quantities of electronic material and associated application data to the Office. Such “system-to-system” or “business-to-business” capabilities are a central area of inquiry for the Office. Interested parties have suggested that the Office expose data portals enabled to facilitate data exchange over standards-based protocols such as ebMS, SOAP, and AS4.

In support of potential bulk data transfer capabilities, the Office is investigating specific data exchange standards, including those that already exist as well as the potential for developing a new standard based upon the needs of the Office's constituents. Interested parties have told the Office that it should continue to take an active role and adopt existing standards that support data exchange between the Office and its stakeholders. This includes defining or adopting metadata standards that support particular industries (e.g., IPTC for photography; ISRC for sound recordings; ONIX for books). Further, standards such as CISAC's Common Works Registration (CWR) and DDEX digital supply chain standards should be considered to help develop the Office's ability to provide better business-to-business data transfers. Interested parties have suggested that the Copyright Office publish a recognized list of data standards so that users are able to establish systems that support more efficient interactions with the Copyright Office.

III. Subjects of Inquiry

The Copyright Office is currently evaluating what the “next generation” of its electronic services should look like. Through a comprehensive evaluation of its current technical processing capabilities, and extensive interaction with stakeholders, the Office hopes to develop a complete picture of how the Office currently supports the needs of the copyright community, and where its systems and services could be improved. The Office hopes to achieve a greater understanding of current technical challenges facing the copyright community as well as gain a comprehensive understanding of how the community hopes to conduct business with the Copyright Office in the future. This evaluation process, which is tied to special projects detailed in Priorities and Special Projects of the U.S. Copyright Office released by the Register of Copyrights in October 2011, is intended to inform the development of the Office's next five-year strategic plan that will commence in October 2013 and guide, among other things, the technological evolution of the Copyright Office. That plan will, in turn, inform the Library of Congress's overarching strategic plan.

Because the Office's evaluation of its technology platform is intended to be a wide-ranging review of existing capabilities and future possibilities, the Office seeks comments that present conceptual frameworks with concrete examples of future potential applications or services. Broadly, the Office seeks comments on (1) how stakeholders use the current online offerings of the Copyright Office, especially with respect to registration and recorded documents, and how the current offerings meet, fail to meet, or exceed user expectations; and (2) how stakeholders would like to interact with the Copyright Office electronically in the future, or, put differently, what online services, or aspects of existing online services stakeholders would like to see.

Although the Office welcomes comments on the wide range of topics germane to this inquiry, it is particularly interested in comments that address: (1) The nature and capabilities of the Copyright Office's public portals (e.g., for electronic registration services), including interface-based portals as well as business-to-business portals, or access to Copyright Office services or data through application program interfaces; (2) the nature and scope of information captured during the course of the registration and recordation processes, including that which could be captured through user input, or through metadata harvesting; (3) metadata standards in particular industries that the Copyright Office might adopt or incorporate into its systems (e.g., IPTC for photography; ISRC for sound recordings; ONIX for books); (4) data storage and security standards for electronic copyright deposits, including the development of policies and best practices for data retention and migration; (5) new ways of searching and accessing registration and recordation data and/or registration deposit metadata (e.g., image or music search technology); and (6) the integration of third-party databases of copyright ownership and licensing information (such as those maintained by collective management organizations) and related technologies with data maintained by the Copyright Office.

Dated: March 18, 2013.
Maria A. Pallante,
Register of Copyrights, U.S. Copyright Office.

[FR Doc. 2013-06633 Filed 3-21-13; 8:45 am]

BILLING CODE 1410-30-P